DEPARTMENT OF TRANSPORTATION

Pipeline and Hazardous Materials Safety Administration

[Docket No. PHMSA-2017-0084; Notice No. 2017-03]

Hazardous Materials: Proposed Termination of M-Number and R-Number Approvals Issued Without an Expiration Date

AGENCY: Pipeline and Hazardous Materials Safety Administration (PHMSA), Department of Transportation (DOT).

ACTION: Notice.

SUMMARY: To standardize manufacturer and reconditioner approvals, PHMSA is proposing to terminate any M-number and R-number approvals that were previously issued without an expiration date. The termination of these approvals will take effect one year from the publication date of this notice. Approval holders must either show cause why their approvals should not be terminated or apply for a modification of their approval prior to the effective date to avoid termination. Once terminated, requests for reconsideration of the termination must be submitted within 20 days of the date of termination.

FOR FURTHER INFORMATION CONTACT: Mr. Ryan Paquet, Director, Approvals and Permits Division, Office of Hazardous Materials Safety, (202) 366-4512, PHMSA, 1200 New Jersey Avenue SE., Washington, DC 20590 or at approvals@dot.gov.

Correspondence regarding the proposed M-number and R-number terminations should be sent to approvals@dot.gov with the subject line “Termination of M-numbers/Termination of R-numbers.”

SUPPLEMENTARY INFORMATION:

I. Introduction

PHMSA is proposing to terminate the approvals discussed below to standardize all approvals issued by the Approvals and Permits Division. Previously approved R-numbers and M-numbers that were issued without an expiration date will be terminated unless approval holders either show cause why their approvals should not be terminated as provided in 49 CFR 107.713(c)(1) or apply for a modification of their approval in accordance with 49 CFR 107.705 prior to the effective date. Modified approvals will conform to the Approvals and Permits Division's standardized format in which all approvals have a 5-year expiration date.

II. Background

The Approvals and Permits Division issues registration numbers, referred to as “M-numbers,” to companies that manufacture or recondition packaging related to hazardous materials. This registration number is used for identification purposes in place of the manufacturer or reconditioner's name and address, as authorized in 49 CFR 178.503. In previous years, PHMSA issued reconditioner approvals, known as an “R-number,” to companies that reconditioned packages related to hazardous materials. PHMSA no longer issues R-numbers and now issues M-numbers in their place. However, many R-number approvals are still active.

Standardization of the M-number and R-number approval processes will allow PHMSA to regularly review approval documents and track changes. It will ensure that all applicants are subject to the same renewal timelines and requirements to contact PHMSA when pertinent information pertaining to the approval holder has changed. PHMSA is concerned that holders of approvals issued without expiration dates may have stopped operations, or changed their names or principal places of business without notifying PHMSA. Requiring these holders to modify their approvals will require them to re-establish contact and communication with PHMSA. Although this process will assist PHMSA in monitoring and communicating with the regulated industry, PHMSA has also communicated with the regulated community on its proposed actions, at various public meetings with several companies and industry associations, to gauge the effect and benefits of this action to the regulated public. The comments received by PHMSA from the regulated public reflect that this action will greatly assist the regulated community by allowing approval holders, and other entities, to monitor the validity of their approval, renew in a timely manner, and search and determine compliance by using the updated listing on PHMSA's Web page. Lastly, this action will allow companies that are still identifiable and known within the public realm, by a previously registered “R-Number,” to maintain their public notoriety, while updating their approval to current standards and requirements without disruption.

III. Action

The proposed termination of these approvals will take effect one year from the publication date of this notice. Holders of R-numbers and any M-numbers that were issued without an expiration date must either show cause why their approvals should not be terminated as provided in 49 CFR 107.713(c)(1) or apply for a modification of their approval in accordance with 49 CFR 107.705 prior to the effective date to avoid termination. R-number modification applicants will be issued an M-number but may continue to use their R-number. All modified approvals will be standardized and will have a 5-year expiration date.

A holder of an M-number or R-number that is terminated according to this notice may request that the Associate Administrator reconsider the termination. Pursuant to 49 CFR 107.715, such a request must: (1) Be in writing and filed within 20 days of the date of termination; (2) state in detail any alleged errors of fact and law; (3) enclose any additional information needed to support the request to reconsider; and (4) state in detail the modification of the final decision sought. This notice serves as service of process pursuant to 49 CFR 105.35(a)(3).

Issued in Washington, DC, on November 13, 2017, under authority of 49 U.S.C. 5101-5128, as delegated in 49 CFR part 107.
William S. Schoonover,
Associate Administrator, Pipeline and Hazardous Materials Safety Administration.

[FR Doc. 2017-24981 Filed 11-16-17; 8:45 am]

BILLING CODE 4909-60-P